DEPARTMENT OF THE INTERIOR

Bureau of Ocean Energy Management, Regulation and Enforcement

[BOEM-2011-0039]

Commercial Lease of Submerged Lands for Renewable Energy Development on the Outer Continental Shelf

AGENCY: Bureau of Ocean Energy Management, Regulation and Enforcement (BOEMRE), Department of the Interior.

ACTION: Request for comment.

SUMMARY: BOEMRE will use Form 0008 to issue commercial renewable energy leases on the Outer Continental Shelf. In the preamble to the April 29, 2009, Final Rule, “Renewable Energy and Alternate Uses of Existing Facilities on the Outer Continental Shelf,” BOEMRE stated that “we intend to develop a model lease form through a public process that will invite all interested and affected parties for their input” (at p. 19729).

The bureau has developed the form included in this notice, and welcomes comments over the 30 days following publication of this notice. Following the 30-day comment period, BOEMRE will review all submitted comments, and publish a final version of the form in the Federal Register.

DATES: Submit written comments by October 6, 2011.

FOR FURTHER INFORMATION CONTACT: Maureen A. Bornholdt, Program Manager, Office of Offshore Alternative Energy Programs at (703) 787-1300 for lease questions.

ADDRESSES: You may submit comments by either of the following methods listed below.

• Electronically: go to http://www.regulations.gov. In the entry titled “Enter Keyword or ID,” enter docket BOEM-2011-0039 then click “search.” Follow the instructions to submit public comments and view supporting and related materials. BOEMRE will post all comments on http://www.regulations.gov.

• Mail or hand-carry comments to the Department of the Interior; Bureau of Ocean Energy Management, Regulation and Enforcement; Attention: Wright Frank; 381 Elden Street, MS-4090, Herndon, Virginia 20170. Please reference the docket number and title in your comment and include your name and return address.

Public Comment Procedures: Before including your address, phone number, email address, or other personal identifying information in your comment, you should be aware that your entire comment—including your personal identifying information—may be made publicly available at any time. While you can ask us in your comment to withhold your personal identifying information from public view, we cannot guarantee that we will be able to do so.

Authority: 43 U.S.C. 1331 et seq.

Dated: July 20, 2011.
Robert P. LaBelle,
Acting Associate Director for Offshore Energy and Minerals Management.

BILLING CODE 4310-MR-P

[FR Doc. 2011-22608 Filed 9-2-11; 8:45 am]

BILLING CODE 4310-MR-C